FEDERAL COMMUNICATIONS COMMISSION

[FR ID: 167780]

Privacy Act of 1974; System of Records

AGENCY: Federal Communications Commission.

ACTION: Notice of a modified system of records.

SUMMARY: The Federal Communications Commission (FCC, Commission, or Agency) proposes to modify an existing system of records, FCC/CGB-4, internet-based Telecommunications Relay Service-User Registration Database (ITRS-URD) Program, subject to the Privacy Act of 1974, as amended. This action is necessary to meet the requirements of the Privacy Act to publish in the Federal Register notice of the existence and character of records maintained by the agency. The ITRS-URD's system of records contains personally identifiable information (PII) that is collected, used, stored, and maintained to support the administration, management, operations, and functions of the ITRS programs. The ITRS-URD, which is administered by a third party under contract with the FCC, is a database registration system that provides a necessary interface for multiple ITRS services, which include, but are not limited to Video Relay Service (VRS), and internet Protocol Captioned Telephone Service (IP CTS). These services are available to individuals who are deaf, deaf-blind, hard of hearing, or have speech disabilities, who are eligible under the Americans with Disabilities Act (ADA), and who register to participate in a TRS program. This modification makes various necessary changes and updates, including clarification of the purpose of the system, formatting changes required by the Office of Management and Budget (OMB) Circular A-108 since its previous publication, the addition of new routine uses, as well as the revision of existing routine uses.

DATES: This modified system of records will become effective on September 1, 2023. Written comments on the routine uses are due by October 2, 2023. The routine uses in this action will become effective on October 2, 2023 unless comments are received that require a contrary determination.

ADDRESSES: Send comments to Katherine C. Clark, FCC, 45 L Street NE, Washington, DC 20554, or to privacy@fcc.gov.

FOR FURTHER INFORMATION CONTACT: Katherine C. Clark, (202) 418-1773 or privacy@fcc.gov (and to obtain a copy of the Narrative Statement and the Supplementary Document, which includes details of the proposed alterations to this system of records).

SUPPLEMENTARY INFORMATION: As required by the Privacy Act of 1974, as amended, 5 U.S.C. 552a(e)(4) and (e)(11), this document sets forth notice of the proposed modification of a system of records maintained by the FCC. The FCC previously provided notice of the system of records FCC/CGB-4, internet-based Telecommunications Relay Service-User Registration Database (ITRS-URD) Program, by publication in the Federal Register on February 9, 2015 (80 FR 6963).

This notice serves to update and modify FCC/CGB-4 as a result of various necessary changes and updates, including approval by the National Archives and Records Administration (NARA) of a records retention and disposal schedule for the information in this system, since its previous publication. The substantive changes and modifications to the previously published version of the FCC/CGB-4 system of records include:

1. Restyling the name of the System as the “internet-based Telecommunications Relay Service-User Registration Database (ITRS-URD)”;

2. Updating the language in the Security Classification to follow OMB guidance;

3. Modifying the language in the Categories of Individuals and Categories of Records to be consistent with the language and phrasing now used in FCC SORNs and to reflect regulatory changes in the ITRS-URD and ITRS programs;

4. Updating and/or revising language in the following routine uses (listed by current routine use number): (4) FCC Enforcement Actions; (5) Congressional Inquiries; (6) Government-wide Program Management and Oversight; (7) Law Enforcement and Investigation; (8) Litigation; (9) Adjudication; and (10) Breach Notification, the revision of which is as required by OMB Memorandum No. M-17-12;

5. Adding two new routine uses (listed by current routine use number): (11) Assistance to Federal Agencies and Entities Related to Breaches—to assist with other Federal agencies' data breach situations, which is required by OMB Memorandum No. M-17-12; and (12) Non-Federal Personnel—to allow contractors, other vendors, grantees, and volunteers who have been engaged to assist the FCC in the performance of a contract service, grant, cooperative agreement access to information; and

6. Deleting one routine use (listed by previous routine use number): (10) Department of Justice as duplicative of the newly revised routine use (8) Litigation.

7. Updating the existing records retention and disposal schedule with a new records schedule: “Telecommunications Relay Service (TRS),” Records Schedule Number DAA-0173-2015-0006.

The system of records is also revised for clarity and updated to reflect various administrative changes related to the system managers and system addresses; policy and practices for storage and retrieval of the information; administrative, technical, and physical safeguards; and updated notification, records access, and contesting records procedures.

SYSTEM NAME AND NUMBER:

FCC/CGB-4, internet-based Telecommunications Relay Service-User Registration Database (ITRS-URD).

SECURITY CLASSIFICATION:

Unclassified.

SYSTEM LOCATION:

Consumer and Governmental Affairs Bureau (CGB), FCC, 45 L Street NE, Washington, DC 20554.

SYSTEM MANAGER(S):

CGB, FCC, 45 L Street NE, Washington, DC 20554.

AUTHORITY FOR MAINTENANCE OF THE SYSTEM:

47 U.S.C. 141-154, 225, 255, 303(r), 616, and 620; 47 CFR parts 64, Subpart F.

PURPOSE(S) OF THE SYSTEM:

This system collects and maintains:

1. Information that is used to determine whether an individual who is applying for a TRS program is eligible to register for the program;

2. Information that the ITRS-URD administrator uses to determine whether information with respect to registered users already in the ITRS-URD is correct and complete;

3. Information that the ITRS-URD administrator uses or will use in a system for automated validation of the registration information that has been submitted and ensure that the authorized VRS and IP CTS providers are unable to register individuals who do not pass the identification verification check conducted through the ITRS-URD;

4. Information that VRS and IP CTS providers must request to validate each individual who seeks to register that he/she is an actual person living or visiting in the United States;

5. Information related to users signed up with multiple providers for VRS or IP CTS; and

6. Information that is contained in the records of the inquiries that VRS and IP CTS providers will make available to the ITRS-URD administrator and its contractors and subcontractors who manages the database (providing verification/call/service center(s) services) to verify that individuals who are deaf, deaf-blind, hard of hearing, or have speech disabilities and who are eligible under the ADA to participate in ITRS programs.

Collecting and maintaining these types of information allows staff access to documents necessary for key activities discussed in this SORN, including verifying the eligibility of individuals to participate in ITRS programs; analyzing effectiveness and efficiency of related FCC programs and informing future rule-making and policy-making activity; and improving staff efficiency. Records in this system are available for public inspection, e.g., in response to requests under the Freedom of Information Act (FOIA), after redaction of identifying information such as a name, address, telephone number, fax number, and/or email address.

CATEGORIES OF INDIVIDUALS COVERED BY THE SYSTEM:

Individuals who are deaf, deaf-blind, hard of hearing, or have speech disabilities, and who are eligible under the ADA to register for one or more of the ITRS program's multiple services; representatives of certified ITRS Program providers; individuals who are registered and currently receiving ITRS Program services; and/or individuals who are minors whose status makes them eligible for a parent or guardian to register them for ITRS program services.

CATEGORIES OF RECORDS IN THE SYSTEM:

Electronic records regarding ITRS participants, subscribers, and applicants, including their full names (first, middle, and last names); the names of parents or guardians; full residential addresses; dates of birth; last four digits of social security numbers (SSNs) or Tribal identification numbers (or alternative proof of identification for those who do not have an SSN or Tribal identification number); ten digit telephone number(s) assigned in the TRS number directory and associated uniform resource identifier (URI) information; users' registered location information for emergency calling purposes; eligibility certifications (digital copy) for ITRS program's service(s) and date obtained from provider; users' VRS or IP CTS initiation dates and (when applicable) termination dates; date on which user last placed a point-to-point or relay call.

RECORD SOURCE CATEGORIES:

Information in this system is provided by individuals, or by parents or guardians of minor individuals, who are deaf, deaf-blind, hard of hearing or have speech disabilities to determine their eligibility for ITRS programs; and by ITRS program providers for registration of subscribers, participants, and applicants, and/or their re-certification in ITRS programs.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed to authorized entities, as is determined to be relevant and necessary, outside of the FCC as a routine use pursuant to 5 U.S.C. 552a(b)(3) as follows:

1. FCC Program Management—A record from this system may be accessed and used by the ITRS-URD Administrator and to third-party contractor's employees (including employees of subcontractors) to conduct official duties associated with the administration, management, and operation of the ITRS programs, as directed by the Commission. Such duties include conducting the verification process that allows the ITRS-URD administrator to determine the accuracy of the PII provided by or regarding participants, subscribers, and applicants to the system of records, i.e., when an employee of a third-party contractor (and/or subcontractor), responsible for management registration and fraud prevention, verifies the eligibility of the participant, registrant, or subscriber. The FCC may share access to the information in the ITRS-URD for the purposes of managing and/or eliminating waste, fraud, and abuse in the ITRS programs, including as necessary for, among other things, audits, oversight, and or investigations.

2. ADA Eligibility Verification Data—A record from this system may be disclosed to the appropriate Federal, State, Tribal, or local authorities (including transfers of PII data to/from the ITRS-URD Administrator, contractors, and subcontractors, as required) for the purposes of verifying whether individuals who are deaf, deaf-blind, hard of hearing or have speech disabilities are eligible under the ADA to register to participate in/subscribe to ITRS programs;

3. State or Tribal Agencies and Authorized Entities—A record from this system may be disclosed to designated State or Tribal agencies and other authorized entities, which include, but are not limited to state public utility commissions, and their agents, as is consistent with applicable Federal and State laws, to administer TRS or ITRS (as applicable) programs in that state and to perform other management and oversight duties and responsibilities, including determining eligibility for TRS or ITRS programs.

4. FCC Enforcement Actions—When a record in this system involves an informal complaint filed with the FCC alleging a violation of FCC rules, regulations, orders, or requirements by an ITRS applicant, subscriber, participant, licensee, certified or regulated entity/provider, or an unlicensed person or entity, the complaint may be served to the alleged violator for a response through the FCC's normal course of complaint handling process. When an order or other Commission-issued document that includes consideration of an informal complaint or complaints is issued by the FCC for resolution or enforcement, the complainant's name may be made public in that order or letter document. Where a complainant in filing his or her complaint explicitly requests that confidentiality of his or her name from public disclosure, the Commission will endeavor to protect such information from public disclosure. Complaints that contain requests for confidentiality may be dismissed if the Commission determines that the request impedes the Commission's ability to investigate and/or resolve the complaint.

5. Congressional Inquiries—To provide information to a Congressional office from the record of an individual in response to an inquiry from that Congressional office made at the written request of that individual.

6. Government-wide Program Management and Oversight—To provide information to the Department of Justice (DOJ) to obtain that department's advice regarding disclosure obligations under FOIA; or to OMB to obtain that office's advice regarding obligations under the Privacy Act.

7. Law Enforcement and Investigation—To disclose pertinent information to appropriate Federal, State, Tribal, or local agencies, authorities, and officials responsible for investigating, prosecuting, enforcing, or implementing a statute, rule, regulation, order, or other requirement when the FCC becomes aware of an indication of a violation or potential violation of a civil or criminal statute, law, regulation, order, or other requirement.

8. Litigation—To disclose records to DOJ when: (a) the FCC or any component thereof; (b) any employee of the FCC in his or her official capacity; (c) any employee of the FCC in his or her individual capacity where the DOJ or the FCC has agreed to represent the employee; or (d) the United States Government is a party to litigation or has an interest in such litigation, and by careful review, the FCC determines that the records are both relevant and necessary to the litigation, and the use of such records by the DOJ is for a purpose that is compatible with the purpose for which the FCC collected the records.

9. Adjudication—To disclose records in a proceeding before a court or adjudicative body, when: (a) the FCC or any component thereof; or (b) any employee of the FCC in his or her official capacity; or (c) any employee of the FCC in his or her individual capacity; or (d) the United States Government, is a party to litigation or has an interest in such litigation, and by careful review, the FCC determines that the records are both relevant and necessary to the litigation, and that the use of such records is for a purpose that is compatible with the purpose for which the agency collected the records.

10. Breach Notification—To appropriate agencies, entities, and persons when: (a) the Commission suspects or has confirmed that there has been a breach of the system of records; (b) the Commission has determined that as a result of the suspected or confirmed compromise there is a risk of harm to individuals, the Commission (including its information systems, programs, and operations), the Federal Government, or national security; and (c) the disclosure made to such agencies, entities, and persons is reasonably necessary to assist in connection with the Commission's efforts to respond to the suspected or confirmed breach or to prevent, minimize, or remedy such harm.

11. Assistance to Federal Agencies and Entities Related to Breaches—To another Federal agency or Federal entity, when the Commission determines that information from this system is reasonably necessary to assist the recipient agency or entity in: (a) responding to a suspected or confirmed breach or (b) preventing, minimizing, or remedying the risk of harm to individuals, the recipient agency or entity (including its information systems, program, and operations), the Federal Government, or national security, resulting from a suspected or confirmed breach.

12. Non-Federal Personnel—To disclose information to non-Federal personnel, including contractors, other vendors (e.g., identity verification services), grantees, and volunteers who have been engaged to assist the FCC in the performance of a contract service, grant, cooperative agreement, or other activity related to this system of records and who need to have access to the records in order to perform their activity.

POLICIES AND PRACTICES FOR STORAGE OF RECORDS:

This system contains electronic records, files, and data. The ITRS-URD Program Administrator will host the electronic data, which will reside in the administrator's ITRS-URD Program's database(s) and in the databases of third-party contractors and subcontractors who conduct the subscribers/participants' verification processes.

POLICIES AND PRACTICES FOR RETRIEVAL OF RECORDS:

Records in this system of records can be retrieved by any category field, e.g., first or last name or email address.

POLICIES AND PRACTICES FOR RETENTION AND DISPOSAL OF RECORDS:

The information in this system is maintained and disposed of in accordance with NARA records schedule “Telecommunications Relay Service (TRS),” Records Schedule Number DAA-0173-2015-0006.

ADMINISTRATIVE, TECHNICAL, AND PHYSICAL SAFEGUARDS:

The electronic records, files, and data are stored within FCC or a vendor's accreditation boundaries and maintained in a database housed in the FCC's or vendor's computer network databases. Access to the electronic files is restricted to authorized employees and contractors; and to IT staff, contractors, and vendors who maintain the IT networks and services. Other employees and contractors may be granted access on a need-to-know basis. The electronic files and records are protected by the FCC and third-party privacy safeguards, a comprehensive and dynamic set of IT safety and security protocols and features that are designed to meet all Federal privacy standards, including those required by the Federal Information Security Modernization Act of 2014 (FISMA), OMB, and the National Institute of Standards and Technology (NIST).

RECORD ACCESS PROCEDURES:

Individuals wishing to request access to and/or amendment of records about themselves should follow the Notification Procedure below.

CONTESTING RECORD PROCEDURES:

Individuals wishing to request access to and/or amendment of records about themselves should follow the Notification Procedure below.

NOTIFICATION PROCEDURES:

Individuals wishing to determine whether this system of records contains information about themselves may do so by writing to privacy@fcc.gov. Individuals requesting access must also comply with the FCC's Privacy Act regulations regarding verification of identity to gain access to records as required under 47 CFR part 0, subpart E.

EXEMPTIONS PROMULGATED FOR THE SYSTEM:

None.

HISTORY:

80 FR 6963 (February 9, 2015)

Federal Communications Commission.
Marlene Dortch,
Secretary.

[FR Doc. 2023-18945 Filed 8-31-23; 8:45 am]

BILLING CODE 6712-01-P